DEPARTMENT OF THE INTERIOR

Bureau of Land Management

(NV-930-1430-ET; NVN-50250)

Notice of Proposed Extension of Withdrawal and Opportunity for Public Meeting; Nevada

AGENCY: Bureau of Land Management, Interior.

ACTION: Notice.

SUMMARY: The Department of Energy (DOE) has filed an application to extend the withdrawal of 4,255.50 acres of public land in Nye County to maintain the physical integrity of the subsurface environment at Yucca Mountain. The withdrawal being extended is Public Land Order No. 6802. This withdrawal will expire on September 24, 2002, unless extended. The land is currently withdrawn from location under the United States mining laws and from leasing under the mineral leasing laws by Public Land Order No. 6802.

DATES: Comments and requests for a meeting should be received on or before December 20, 2000.

ADDRESSES: Comments and meeting requests should be sent to the Nevada State Director, BLM, 1340 Financial Blvd., P.O. Box 12000, Reno, Nevada 89520.

FOR FURTHER INFORMATION CONTACT: Dennis J. Samuelson, BLM Nevada State Office, 702-861-6532.

SUPPLEMENTARY INFORMATION: On September 1, 2000, the DOE filed an application to extend their withdrawal of public land at Yucca Mountain in Nye County (Public Land Order No. 6802, 55 FR 39152, FR Doc. 22615, September 25, 1990). An extension, if approved, would continue the withdrawal of public land from location under the United States mining laws and from leasing under the mineral leasing laws for the following described land:

Mount Diablo Meridian

T. 13 S., R. 49 E., (Protraction Diagram No. 44)

Secs. 7, 8, and 9;

Sec. 10, except that part withdrawn by Public Land Order No. 2568;

Sec. 15, except that part withdrawn by Public Land Order No. 2568;

Secs. 16 and 17;

Sec. 20, NE¼;

Sec. 21, N½ and N½S½;

Sec. 22, N½ and N½S½, except that part withdrawn by Public Land Order No. 2568.

The area described contains 4,255.50 acres in Nye County.

The DOE proposes to extend the withdrawal through January 31, 2010. The extension of the withdrawal would maintain the physical integrity of the subsurface environment to ensure that scientific studies for site characterization at Yucca Mountain are not invalidated or otherwise adversely impacted. Site characterization activities will be used to determine the suitability of Yucca Mountain for a permanent nuclear waste repository.

This withdrawal extension will be processed in accordance with the regulations set forth in 43 CFR 2300.

For a period of 90 days from the date of publication of this notice, all persons who wish to submit comments, suggestions, or objections in connection with the proposed withdrawal extension may present their views in writing to the Nevada State Director of the Bureau of Land Management.

Notice is hereby given that an opportunity for a public meeting is afforded in connection with the proposed withdrawal extension. All interested persons who desire a public meeting for the purpose of being heard on the proposed extension must submit a written request to the Nevada State Director within 90 days from the date of publication of this notice. Upon determination by the authorized officer that a public meeting will be held, a notice of the time and place will be published in the Federal Register and at least one local newspaper 30 days before the scheduled date of the meeting.

Dated: September 14, 2000.
Jim Stobaugh,
Lands Team Lead.

[FR Doc. 00-24108 Filed 9-20-00; 8:45 am]

BILLING CODE 4310-HC-P